DEPARTMENT OF HEALTH AND HUMAN SERVICES

Administration for Children and Families

Proposed Information Collection Activity; Administration for Native Americans (ANA) Ongoing Progress Report (OPR) and Objective Work Plan (OWP)

AGENCY: Administration for Native Americans, Administration for Children and Families, HHS.

ACTION: Request for public comment.

SUMMARY: The Administration for Children and Families' (ACF) Administration for Native Americans (ANA) is requesting a revision to the information collection: Ongoing Progress Report (OPR) and the Objective Work Plan (OWP) (OMB #0970-0452). Changes are proposed to reduce the burden on the public by combining ANA's Annual Data Report (OMB #0970-0475) with the OPR.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: Content changes are being made to the currently approved OPR. ANA will continue to use the currently approved OPR with minimal changes to the instructions for the remainder of fiscal year (FY) 2020 and will use the modified OPR beginning FY 2021. The modified OPR combines ANA's Annual Data Report (OMB #0970-0475) with the OPR. The information in the OPR is collected on a semi-annual basis to monitor the performance of grantees and better gauge grantee progress.

The OPR information collection is conducted in accordance with Sec. 811 [42 U.S.C. 2992] of the Native American Programs Act and will allow ANA to report quantifiable results across all program areas. It also provides grantees with parameters for reporting their progress and helps ANA better monitor and determine the effectiveness of their projects.

There are no changes proposed to the OWP. The OWP information collection is conducted in accordance with 42 U.S.C. of the Native American Programs Act of 1972, as amended. This collection is necessary to evaluate applications for financial assistance and determine the relative merits of the projects for which such assistance is requested, as set forth in Sec. 806 [42 U.S.C. 2991d-1](a)(1).

Respondents: Federally and state-recognized tribes, Native Pacific Islanders, Tribal Colleges and Universities, native non-profits, and consortia.

Annual Burden Estimates
Instrument | Total number of respondents | Total number of responses per respondent | Average burden hours per response | Total burden hours | Annual burden hours *
Objective Work Plan | 300 | 1 | 3 | 900 | 300
Ongoing Progress Report FY 2020 | 200 | 2 | 1 | 400 | 133
Ongoing Progress Report FY 2021—Exp. Date | 200 | 4 | 2 | 1600 | 533
* Burden is annualized over the three year approval period.

Estimated Total Annual Burden Hours: 966.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec. 806 [42 U.S.C. 2991d-1](a)(1) and Sec. 811 [42 U.S.C. 2992].

Mary B. Jones,
ACF/OPRE Certifying Officer.

[FR Doc. 2020-12739 Filed 6-11-20; 8:45 am]

BILLING CODE 4184-34-P